DEPARTMENT OF THE INTERIOR

Fish and Wildlife Service

Draft Environmental Assessment and Habitat Conservation Plan and Receipt of Application for an Incidental Take Permit for Livermore Area in Larimer County, CO

AGENCY: Fish and Wildlife Service, Interior.

ACTION: Notice of availability and receipt of application.

SUMMARY: This notice advises the public that the Livermore Area Landowners Group, The Nature Conservancy and the State of Colorado (Applicants) have applied to the U.S. Fish and Wildlife Service (Service) for an incidental take permit pursuant to section 10(a)(1)(B) of the Endangered Species Act (Act) of 1973, as amended. The proposed permit would authorize the incidental take of the Preble's meadow jumping mouse (Zapus hudsonius preblei) (Preble's), federally listed as threatened, through loss and modification of its habitat associated with development of new agricultural and residential structures and ongoing agricultural activities in the Livermore Area of northern Larimer County, Colorado. The duration of the permit would be 30 years from the date of issuance.

We announce the receipt of the Applicant's incidental take permit application, which includes an Environmental Assessment (EA) and the Livermore Area Habitat Conservation Plan (LAHCP) for the Preble's in the Livermore Area of Larimer County, Colorado. The proposed EA and LAHCP are available for public review and comment. They fully describe the proposed project and the measures the Applicants would undertake to minimize and mitigate project impacts to the Preble's.

The Service requests comments on the EA and LAHCP and associated documents for the proposed issuance of the incidental take permit. All comments on the EA and permit application will become part of the administrative record and will be available to the public. We provide this notice pursuant to section 10(a) of the Act and National Environmental Policy Act regulations (40 CFR 1506.6).

DATES: Written comments on the permit application, EA and LAHCP should be received on or before March 15, 2004.

ADDRESSES: Comments regarding the permit application, EA, and LAHCP should be addressed to Mary Henry, Assistant Regional Director, Ecological Services, U.S. Fish and Wildlife Service, P.O. Box 25486, Denver Federal Center, Denver, Colorado 80225-0486. (Street location is 134 Union Boulevard, Lakewood, Colorado 80228-1807). Comments also may be submitted by facsimile to (303) 236-0027.

FOR FURTHER INFORMATION CONTACT: Bob McCue, Ecological Services Program Supervisor (South), telephone (303) 236-7400, extension 252.

SUPPLEMENTARY INFORMATION:

Document Availability

Individuals wishing copies of the EA and LAHCP and associated documents for review should immediately contact the above office. Documents also will be available for public inspection, by appointment, during normal business hours at the above address.

Background

Section 9 of the Act and Federal regulations prohibit the “take” of a species listed as endangered or threatened. Take is defined under the Act, in part, as to kill, harm, or harass a federally listed species. However, the Service may issue permits to authorize “incidental take” of listed species under limited circumstances. Incidental take is defined under the Act as take of a listed species that is incidental to, and not the purpose of, the carrying out of an otherwise lawful activity under limited circumstances. Regulations governing permits for threatened species are promulgated in 50 CFR 17.32.

The Livermore Planning Area encompasses 114,634 hectares (283,266 acres) of land utilized primarily for agricultural purposes with a limited amount proposed for development. The applicants are making participation in the LAHCP available to all landowners within the Livermore Planning Area who voluntarily agree to participate. Within the planning area, the LAHCP proposes a 8,626.3-hectare (21,316-acre) conservation zone (CZ) consisting of corridors along 323.5 kilometers (201 miles) of streams.

The applicants have determined that the activities covered by the LAHCP could impact 1,358.4 hectares (3,356.7 acres) of Preble's habitat along 46.3 stream kilometers (28.8 stream miles), if all lands containing potential Preble's habitat within the CZ of the planning area are enrolled in the LAHCP. The maximum level of permanent impacts allowable under the LAHCP within the portion of the CZ owned by private landowners would be 20 percent (3 percent not requiring mitigation and 17 percent requiring mitigation) and 1 percent on lands owned by The Nature Conservancy (TNC), Colorado Division of Wildlife (CDOW), and the State Land Board (SLB) (not requiring mitigation). In all cases habitat connectivity would be maintained.

In addition to the proposed action, alternatives considered included—(a) no action, (b) development of individual conservation easements, and (c) waiting for Larimer County to develop and gain approval of a county-wide HCP. The draft EA analyzes the direct, indirect, and cumulative impacts of the proposed activities and mitigation on the Preble's, and also on other threatened or endangered species, vegetation, wildlife, wetlands, geology/soils, land use, cultural resources, air quality, and water resources and quality.

Two federally listed species, the threatened Preble's and the threatened bald eagle (Haliaeetus leucocephalus), occur onsite. However, only the Preble's has the potential to be adversely affected by the activities covered in the LAHCP. To mitigate impacts that may result from incidental take (exceeding the limit of 3 percent on private land and 1 percent on the TNC, CDOW, and SLB land), the LAHCP provides for mitigation in the form of either (1) conservation of existing habitat at a ratio of 4:1 (4 acres conserved for every 1 acre of habitat in the CZ impacted), or (2) habitat improvement or creation at a ratio of 2:1. Additionally, the LAHCP calls for mitigation of temporary impacts to the CZ at a 1:1 ratio and identifies methods for and timing of reseeding of temporarily disturbed areas. A monitoring program would be implemented to determine whether the LAHCP is achieving the biological goals and objectives outlined in the plan.

This notice is provided pursuant to section 10(c) of the Act. We will evaluate the permit application, the EA/LAHCP, and comments submitted therein to determine whether the application meets the requirements of section 10(a) of the Act. If it is determined that those requirements are met, a permit will be issued for the incidental take of the Preble's in conjunction with the development of new agricultural and residential structures and ongoing agricultural activities in the Livermore Area of northern Larimer County, Colorado. The final permit decision will be made no sooner than 60 days after the date of this notice.

Dated: December 29, 2003.
Ralph O. Morgenweck,
Regional Director, Denver, Colorado.

[FR Doc. 04-631 Filed 1-12-04; 8:45 am]

BILLING CODE 4310-55-P